DEPARTMENT OF TRANSPORTATION

Federal Aviation Administration

Nineteenth SC-223 Plenary Meeting Calling Notice, Internet Protocol Suit (IPS) and AeroMACS

AGENCY: Federal Aviation Administration (FAA), U.S. Department of Transportation (DOT).

ACTION: Notice of Nineteenth SC-223 Plenary Meeting Calling Notice, Internet Protocol Suit (IPS) and AeroMACS.

SUMMARY: The FAA is issuing this notice to advise the public of a meeting of Nineteenth SC-223 Plenary Meeting Calling Notice, Internet Protocol Suit (IPS) and AeroMACS.

DATES: The meeting will be held August 17-19, 2016 from 9:00 a.m. to 5:00 p.m. Wednesday-Thursday, 9:00 a.m. to 12 p.m. Friday.

ADDRESSES: The meeting will be held at RTCA, Inc., 1150 18th Street NW., Suite 910, Washington, DC 20036.

FOR FURTHER INFORMATION CONTACT: Rebecca Morrison, Program Director, rmorrison@tca.org, (202) 330-0654 or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Nineteenth SC-223 Plenary Meeting Calling Notice, Internet Protocol Suit (IPS) and AeroMACS. The agenda will include the following:

August 17-19, 2016

1. Welcome, Introductions, Administrative Remarks

2. Review of Current State of Industry Standards

a. ICAO WG-I

b. AEEC IPS Sub Committee

3. Current State of Industry Activities

a. SESAR Programs

b. ESA IRIS Precursor

c. FAA report on Safety/Hazard Assessment for DataComm, AeroMACS & SATCOM

d. EUROCAE Status

e. Any Other Activities

4. IPS Technical Discussions

a. Review of IPS RFC Profiles

i. RFC 791—IP: LST & Honeywell

ii. RFC 2460—IPv6: LST & Honeywell

iii. RFC 793—TCP: Harris & Airtel ATN

iv. RFC 768—UDP: Mitre

v. RFC 2474—DS Field: LS Tech

vi. Any other RFCs?

b. Prioritization of additional IETF RFCs for Profiling

5. Any Other Topics of Interest

6. Plans for Next Meetings

7. Review of Action Items and Meeting Summary

8. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on June 29, 2016.
Mohannad Dawoud,
Management & Program Analyst, Partnership Contracts Branch, ANG-A17, NexGen, Procurement Services Division, Federal Aviation Administration.

[FR Doc. 2016-15993 Filed 7-5-16; 8:45 am]

BILLING CODE 4910-13-P